Title 3—

The President

Presidential Determination No. 2005-21 of February 15, 2005

Determination to Waive Military Coup-Related Provisions of the Foreign Operations, Export Financing, and Related Programs Appropriations Act, 2005, with Respect to Pakistan

Memorandum for the Secretary of State

Pursuant to the authority vested in me by the Constitution and laws of the United States, including Public Law 107-57, as amended, I hereby determine and certify, with respect to Pakistan, that a waiver of any provision of the Foreign Operations, Export Financing, and Related Program Appropriations Act, 2005 (Division D, Public Law 108-447), that prohibits direct assistance to the government of any country whose duly elected head of government was deposed by decree or military coup:

•

would facilitate the transition to democratic rule in Pakistan; and

•

is important to United States efforts to respond to, deter, or prevent acts of international terrorism.

Accordingly, I hereby waive, with respect to Pakistan, any such provision. You are authorized and directed to transmit this determination to the Congress and to arrange for its publication in the Federal Register.

B

THE WHITE HOUSE,

Washington, February 15, 2005.

[FR Doc. 05-4268

Filed 3-2-05; 8:45 am]

Billing code 4710-10-P